DEPARTMENT OF EDUCATION

[Docket No. ED-2016-ICCD-0008]

Agency Information Collection Activities; Comment Request; Parent Information and School Choice Evaluation

AGENCY: Institute of Education Sciences (IES), Department of Education (ED).

ACTION: Notice.

SUMMARY: In accordance with the Paperwork Reduction Act of 1995 (44 U.S.C. chapter 3501 et seq.), ED is proposing a new information collection.

DATES: Interested persons are invited to submit comments on or before March 21, 2016.

ADDRESSES: To access and review all the documents related to the information collection listed in this notice, please use http://www.regulations.gov by searching the Docket ID number ED-2016-ICCD-0008. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E105, Washington, DC 20202-4537.

FOR FURTHER INFORMATION CONTACT: For specific questions related to collection activities, please contact Meredith Bachman, (202) 245-7494.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Parent Information and School Choice Evaluation.

OMB Control Number: 1850-NEW.

Type of Review: A new information collection.

Respondents/Affected Public: Individuals or Households.

Total Estimated Number of Annual Responses: 3,525.

Total Estimated Number of Annual Burden Hours: 2,306.

Abstract: Sponsored by the Institute of Education Sciences (IES), U.S. Department of Education, the Parent Information and School Choice Evaluation (PISCE) is an important first step toward filling the wide gap in knowledge about how to present school choice information to parents. This research is needed to provide guidance to districts where school choice is expanding. PISCE seeks to identify the format, amount, and organization of information that is most comprehensible and usable to parents. The study will target low-income parents of school-age children and will evaluate perceptions of different presentations of school information. The results of the study will be used to create a reader-friendly guide for school districts.

IES has contracted with Mathematica Policy Research to conduct the needed research. Most of the experiment will be conducted with members of a standing panel who already complete surveys on a regular basis for a variety of purposes. This approach provides a low-cost and quick turnaround method to obtain findings related to the understandability of school choice information, which does not require respondents to be making actual school choices for their children. To enhance what can be learned from the standing panel, the research team also intends to recruit a sample of low-income parents of school-age children from locations where a public school choice marketplace with unified enrollment has been active for at least two years. Parents who have experienced public school choice or are at least exposed to open enrollment in their district may experience the experiment differently than the standing panel members, for whom considering schools other than one's default neighborhood school may be unfamiliar. This augmented sample of, presumably, less survey-savvy low-income parents will be used to provide a sensitivity check of the findings based on the standing panel alone.

Dated: January 13, 2016.
Stephanie Valentine,
Acting Director, Information Collection Clearance Division, Office of the Chief Privacy Officer, Office of Management.

[FR Doc. 2016-00845 Filed 1-15-16; 8:45 am]

BILLING CODE 4000-01-P